DEPARTMENT OF AGRICULTURE

Office of the Secretary

Request for Nominations of Members for the National Agricultural Research, Extension, Education, and Economics Advisory Board, Specialty Crop Committee, and National Genetics Advisory Council

AGENCY: Research, Education, and Economics, USDA.

ACTION: Solicitation for membership.

SUMMARY: In accordance with the Federal Advisory Committee Act, the U.S. Department of Agriculture (USDA) announces the opening of the solicitation for nominations to fill vacancies on the National Agricultural Research, Extension, Education, and Economics (NAREEE) Advisory Board and its subcommittees. There are eight vacancies on the NAREEE Advisory Board; three vacancies on the Specialty Crop Committee; six vacancies on the Citrus Disease Subcommittee; and two vacancies on the National Genetics Advisory Council.

DATES: All nomination materials should be submitted in a single, complete package and received or postmarked by August 10, 2018.

ADDRESSES: The nominee's name, resume or CV, completed and signed Form AD-755, and any letters of support must be submitted via one of the following methods: (1) Email to nareeeab@ars.usda.gov; (2) By fax to 202-720-6199; or (3) By mail delivery service to: REE Advisory Board Office, U.S. Department of Agriculture, Jamie L. Whitten Building, Room 332-A, 1400 Independence Avenue SW, Washington, DC 20250-2255.

FOR FURTHER INFORMATION CONTACT: Michele Esch, Director, National Agricultural Research, Extension, Education, and Economics Advisory Board, 1400 Independence Avenue SW, Room 332A, The Whitten Building, Washington, DC 20250-2255; telephone: 202-720-3684; fax: 202-720-6199; email: nareeeab@ars.usda.gov. Committee website: www.nareeeab.ree.usda.gov.

SUPPLEMENTARY INFORMATION:

Instructions for Nominations: Nominations are solicited from organizations, associations, societies, councils, federations, groups, and companies that represent a wide variety of food and agricultural interests throughout the country. Nominations for one individual who fits several of the categories listed above, or for more than one person who fits one category, will be accepted. Nomination letters must indicate the specific category(s) or subcommittee for which the nominee is applying (i.e., for the Specialty Crop Committee or the National Genetics Advisory Council). Nominees may be considered for more than one category and/or subcommittee dependent on qualifications. Each nominee must submit a signed form AD-755, “Advisory Committee Membership Background Information,” which can be obtained from the contact person below or from: https://www.ocio.usda.gov/sites/default/files/docs/2012/AD-755%20-%20Approved%20Master%202015.pdf).

Nominations are open to all individuals without regard to race, color, religion, sex, national origin, age, mental or physical handicap, marital status, or sexual orientation. To ensure the recommendation of the Advisory Board take into account the needs of the diverse groups served by the USDA, membership shall include, to the extent practicable, individuals with demonstrated ability to represent the needs of all racial and ethnic groups, women and men, and persons with disabilities.

Please note, individuals may not serve on more than one USDA Federal Advisory Committee. Lobbyists who are registered with the Federal Government and who are selected to serve on committees to exercise their own individual best judgment on behalf of the government (e.g., as Special Government Employees) are ineligible to serve.

All nominees will be carefully reviewed for their expertise, leadership, and relevance. All nominees will be vetted before selection.

Appointments to the NAREEE Advisory Board and its subcommittees will be made by the Secretary of Agriculture.

NAREEE Advisory Board: The NAREEE Advisory Board was established in 1996 via Section 1408 of the National Agricultural Research, Extension, and Teaching Policy Act of 1977 (7 U.S.C. 3123) to provide advice to the Secretary of Agriculture and land-grant colleges and universities on top priorities and policies for food and agricultural research, education, extension, and economics. Section 1408 of the National Agricultural Research, Extension, and Teaching Policy Act of 1977 was amended by the Farm Security and Rural Investment Act of 2002 to reduce the number of members on the NAREEE Advisory Board to 25 members and required the Board to also provide advice to the Committee on Agriculture of the House of Representatives; the Committee on Agriculture, Nutrition, and Forestry of the Senate; the Subcommittee on Agriculture, Rural Development, Food and Drug Administration and Related Agencies of the Committee on Appropriations of the House of Representatives; and the Subcommittee on Agriculture, Rural Development and Related Agencies of the Committee on Appropriations of the Senate.

Since the Advisory Board's inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996, and one-third of its members were appointed for a 1-, 2-, and 3-year term, respectively. The terms for eight members who represent specific categories will expire September 30, 2018. Nominations are for a 3-year appointment for these eight vacant categories. All nominees will be carefully reviewed for their expertise, leadership, and relevance to a category. Nominations for multiple categories is acceptable. Please note nomination categories on the AD-755 or nomination letter.

The eight slots to be filled are:

Category A. National Farm Organization

Category C. Food Animal Commodity Producer

Category I. National Human Health Association

Category N. Non-Land Grant College or University With Historic Commitment to Research in Food and Agricultural Sciences

Category O. Hispanic-serving Institutions

Category Q. Transportation of food and agricultural products to domestic and foreign markets

Category R. Food Retailing and Marketing Interests

Category S. Food and Fiber Processors

Specialty Crop Committee: The Specialty Crop Committee was created as a subcommittee of the NAREEE Advisory Board in accordance with the Specialty Crops Competitiveness Act of 2004 under Title III, Section 303 of Public Law 108-465. The committee was formulated to study the scope and effectiveness of research, extension, and economics programs affecting the specialty crop industry. The legislation defines “specialty crops” as fruits, vegetables, tree nuts, dried fruits and nursery crops (including floriculture). The Agricultural Act of 2014 further expanded the scope of the Specialty Crop Committee to provide advice to the Secretary of Agriculture on the relevancy review process of the Specialty Crop Research Initiative, a granting program of the National Institute of Food and Agriculture.

Members should represent the breadth of the specialty crop industry. Six members of the Specialty Crop Committee are also members of the NAREEE Advisory Board and six members represent various disciplines of the specialty crop industry. The terms of three members will expire on September 30, 2018. The Specialty Crop Committee is soliciting nominations to fill three vacant positions to represent the specialty crop industry. Appointed members will serve three years with their terms expiring in September 2021.

National Genetic Resources Advisory Council: The National Genetic Resources Advisory Council was re-established in 2012 as a permanent subcommittee of the NAREEE Advisory Board to formulate recommendations on actions and policies for the collection, maintenance, and utilization of genetic resources; to make recommendations for coordination of genetic resources plans of several domestic and international organizations; and to advise the Secretary of Agriculture and the National Genetic Resources Program, part of the Agricultural Research Service, of new and innovative approaches to genetic resources conservation.

The National Genetic Resources Advisory Council membership is required to have two-thirds of the appointed members from scientific disciplines relevant to the National Genetic Resources Program, including agricultural sciences, environmental sciences, natural resource sciences, health sciences, and nutritional sciences; and one-third of the appointed members from the general public including leaders in fields of public policy, trade, international development, law, or management.

The terms of two members of the National Genetic Resources Advisory Council will expire on September 30, 2018. The two slots to be filled are to be composed of one scientific members and one general public member. Appointed members will serve three-year appointments expiring in September 2021.

Citrus Disease Subcommittee: The Citrus Disease Subcommittee was established by the Agricultural Act of 2014 (Sec. 7103) to advise the Secretary of Agriculture on citrus research, extension, and development needs, engage in regular consultation and collaboration with USDA and other organizations involved in citrus, and provide recommendations for research and extension activities related to citrus disease. The Citrus Disease Subcommittee will also advise the Department on the research and extension agenda of the Emergency Citrus Disease Research and Extension Program, a granting program of the National Institute of Food and Agriculture.

The subcommittee is composed of nine members who must be a producer of citrus with representation from the following States: Three members from Arizona or California, five members from Florida, and one member from Texas.

The terms of six Citrus Disease Subcommittee will expire on September 30, 2018. The Citrus Disease Subcommittee is soliciting nominations to fill six vacant positions for membership; three positions are to represent Florida, two positions are to represent California or Arizona, and one position is to represent Texas. Appointed members will serve three years with their terms expiring in September 2021.

Done at Washington, DC, this day of June 3, 2018.
Chavonda Jacobs-Young,
Acting Under Secretary, Research, Education, and Economics, Acting Chief Scientist.

[FR Doc. 2018-15551 Filed 7-19-18; 8:45 am]

BILLING CODE 3410-03-P